FINANCIAL STABILITY OVERSIGHT COUNCIL

Submission for OMB Review; Comment Requests

ACTION: Notice and request for comments.

SUMMARY: The Financial Stability Oversight Council will submit the following information collection request to the Office of Management and Budget (OMB) for review and clearance in accordance with the Paperwork Reduction Act of 1995, Public Law 104-13, on or after the date of publication of this notice.

DATES: Written comments must be received on or before September 11, 2014 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 11020, Washington, DC 20220, or on-line at http://www.PRAComment.gov.

FOR FURTHER INFORMATION CONTACT: Copies of the submission(s) may be obtained by calling (202) 927-5331 or emailing at PRA@treasury.gov, or the entire information collection request may be found at http://www.reginfo.gov.

SUPPLEMENTARY INFORMATION:

Title: Designation of Financial Market Utilities.

OMB Control Number: 1505-0239.

Abstract: The information collected under 12 CFR 1320.20 from FMUs will be used generally by the Council to determine whether to designate or rescind the designation of an FMU under Title VIII of the Dodd-Frank Act. The collection of information under § 1320.11 provides an opportunity for an FMU to submit written materials to the Council before the Council decides whether to (1) make a proposed designation of the FMU as systemically important; or (2) make a proposed determination to rescind the designation of the FMU as systemically important. Similarly, the collection of information under § 1320.12 provides an opportunity for an FMU to request a hearing before, or submit written materials to, the Council before the Council makes a final designation of the FMU as systemically important or makes a final determination to rescind the designation of the FMU. The collection of information under § 1320.14 provides an opportunity for an FMU to request a hearing before, or submit written materials to, the Council to contest the Council's waiver or modification of any of the notice, hearing, or other requirements in §§ 1320.11 and 1320.12.

Type of Review: Extension of a currently approved collection.

Affected Public: Businesses or other for-profit and not-for-profit organization.

Estimated Total Annual Burden Hours for all Collections: 500 hours.

David G. Clunie,
Executive Secretary.

[FR Doc. 2014-19010 Filed 8-11-14; 8:45 am]

BILLING CODE 4810-25-P-P